DEPARTMENT OF TRANSPORTATION

Federal Aviation Administration

14 CFR Part 97

[Docket No. 30880; Amdt. No. 3515]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective January 25, 2013. The compliance date for each SIAP, associated Takeoff Minimums, and ODP is specified in the amendatory provisions.

The incorporation by reference of certain publications listed in the regulations is approved by the Director of the Federal Register as of January 25, 2013.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule ” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on January 4, 2013.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 7 FEBRUARY 2013

Canon City, CO, Fremont County, GPS RWY 29, Orig, CANCELED

Canon City, CO, Fremont County, RNAV (GPS) Y RWY 29, Orig

Canon City, CO, Fremont County, RNAV (RNP) RWY 11, Orig

Canon City, CO, Fremont County, RNAV (RNP) Z RWY 29, Orig

Canon City, CO, Fremont County, Takeoff Minimums and Obstacle DP, Amdt 1

Hillsboro, OH, Highland County, NDB RWY 23, Amdt 5

Hillsboro, OH, Highland County, RNAV (GPS) RWY 23, Orig

Hillsboro, OH, Highland County, VOR/DME OR GPS-A, Amdt 1B, CANCELED

Indiana, PA, Indiana County/Jimmy Stewart FLD/, LOC RWY 28, Orig-B

* * * Effective 7 MARCH 2013

Anaktuvuk Pass, AK, Anaktuvuk Pass, RNAV (GPS)-A, Amdt 1

Jonesboro, AR, Jonesboro Muni, ILS OR LOC RWY 23, Amdt 2

Jonesboro, AR, Jonesboro Muni, VOR RWY 23, Amdt 11

Melbourne, AR, Melbourne Muni—John E Miller Field, RNAV (GPS) RWY 3, Amdt 1

Melbourne, AR, Melbourne Muni—John E Miller Field, RNAV (GPS) RWY 21, Amdt 1

Aspen, CO, Aspen-Pitkin CO/Sardy Field, RNAV (GPS)-F, Orig-A

Lakeland, FL, Lakeland Linder Rgnl, RNAV (GPS) RWY 5, Orig-B

Lakeland, FL, Lakeland Linder Rgnl, RNAV (GPS) RWY 9, Amdt 1

Lakeland, FL, Lakeland Linder Rgnl, RNAV (GPS) RWY 23, Orig-A

Lakeland, FL, Lakeland Linder Rgnl, RNAV (GPS) RWY 27, Amdt 1

Lakeland, FL, Lakeland Linder Rgnl, VOR RWY 9, Amdt 4B

Lakeland, FL, Lakeland Linder Rgnl, VOR RWY 27, Amdt 7D

St Petersburg, FL, Albert Whitted, RNAV (GPS) RWY 7, Amdt 3

Tampa, FL, Tampa Intl, VOR RWY 10, Amdt 9, CANCELED

Toccoa, GA, Toccoa RG Letourneau Field, RNAV (GPS) RWY 20, Amdt 1

Canton, IL, Ingersoll, RNAV (GPS) RWY 18, Amdt 1

Canton, IL, Ingersoll, RNAV (GPS) RWY 36, Amdt 1

Chicago/West Chicago, IL, Dupage, Takeoff Minimums and Obstacle DP, Amdt 1A

Macomb, IL, Macomb Muni, RNAV (GPS) RWY 9, Amdt 1

Macomb, IL, Macomb Muni, RNAV (GPS) RWY 27, Amdt 1

Macomb, IL, Macomb Muni, VOR/DME-A, Amdt 8B, CANCELED

Olney-Noble, IL, Olney-Noble, RNAV (GPS) RWY 11, Amdt 1

Marion, KY, Marion-Crittenden County, RNAV (GPS) RWY 7, Amdt 1

Marion, KY, Marion-Crittenden County, RNAV (GPS) RWY 25, Amdt 1

Marion, KY, Marion-Crittenden County, Takeoff Minimums and Obstacle DP, Amdt 1

Oakland, MD, Garrett County, VOR RWY 27, Amdt 5

Escanaba, MI, Delta County, LOC/DME BC RWY 27, Amdt 1

Houghton Lake, MI, Roscommon County-Blodgett Memorial, RNAV (GPS) RWY 9, Amdt 2

Houghton Lake, MI, Roscommon County-Blodgett Memorial, RNAV (GPS) RWY 27, Amdt 1

Houghton Lake, MI, Roscommon County-Blodgett Memorial, VOR RWY 9, Amdt 5

Houghton Lake, MI, Roscommon County-Blodgett Memorial, VOR RWY 27, Amdt 4

Mason, MI, Mason Jewett Field, GPS RWY 27, Orig, CANCELED

Mason, MI, Mason Jewett Field, RNAV (GPS) RWY 10, Orig

Mason, MI, Mason Jewett Field, RNAV (GPS) RWY 28, Orig

Mason, MI, Mason Jewett Field, VOR-A, Amdt 5

Aitkin, MN, Aitkin Muni-Steve Kurtz Field, NDB RWY 16, Amdt 5

Aitkin, MN, Aitkin Muni-Steve Kurtz Field, RNAV (GPS) RWY 16, Orig

Aitkin, MN, Aitkin Muni-Steve Kurtz Field, RNAV (GPS) RWY 34, Orig

Aitkin, MN, Aitkin Muni-Steve Kurtz Field, Takeoff Minimums and Obstacle DP, Amdt 3

Rolla, MO, Rolla Downtown, Takeoff Minimums and Obstacle DP, Amdt 1, CANCELED

Rolla, MO, Rolla Downtown, VOR/DME OR GPS-A, Amdt 2A, CANCELED

Atlantic City, NJ, Atlantic City Intl, RNAV (GPS) RWY 4, Amdt 2

Atlantic City, NJ, Atlantic City Intl, RNAV (GPS) RWY 22, Amdt 4

Lakeview, OR, Lake County, GPS RWY 34, Orig-A, CANCELED

Lakeview, OR, Lake County, RNAV (GPS) RWY 17, Orig

Lakeview, OR, Lake County, RNAV (GPS) RWY 35, Orig

Lakeview, OR, Lake County, Takeoff Minimums and Obstacle DP, Amdt 3

Philipsburg, PA, Mid-State, Takeoff Minimums and Obstacle DP, Amdt 2

Madisonville, TN, Monroe County, RNAV (GPS) RWY 5, Amdt 2

Madisonville, TN, Monroe County, RNAV (GPS) RWY 23, Amdt 2

Tooele, UT, Bolinder Field-Tooele Valley, ILS OR LOC/DME RWY 17, Amdt 2

Tooele, UT, Bolinder Field-Tooele Valley, NDB RWY 17, Amdt 1A, CANCELED

Tooele, UT, Bolinder Field-Tooele Valley, RNAV (GPS) RWY 17, Amdt 3

Danville, VA, Danville Rgnl, RNAV (GPS) RWY 31, Orig

Jonesville, VA, Lee County, RNAV (GPS) RWY 7, Amdt 1

Wilbur, WA, Wilbur, WIPES ONE, Graphic DP

[FR Doc. 2013-01388 Filed 1-24-13; 8:45 am]

BILLING CODE 4910-13-P